DEPARTMENT OF TRANSPORTATION

Federal Aviation Administration

Change Notice for RTCA Program Management Committee

AGENCY: Federal Aviation Administration (FAA), DOT.

ACTION: Notice of RTCA Program Management Committee meeting.

SUMMARY: The FAA is issuing this notice to advise the public of a meeting of the RTCA Program Management Committee.

DATES: The meeting will be held July 29, 2004 starting at 9 a.m.

ADDRESSES: The meeting will be held at RTCA, Inc., 1828 L Street, NW., Suite 805, Washington, DC, 20036.

FOR FURTHER INFORMATION CONTACT: RTCA Secretariat, 1828 L Street, NW., Suite 850, Washington, DC, 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Program Management Committee meeting. The revised agenda will include:

• July 29:

• Open Session (Welcome and Introductory Remarks, Review/Approve Summary of Previous Meeting)

• Publication Consideration/Approval:

• Final Draft, Interchange Standards for Terrain, Obstacle, and Aerodrome Mapping Data, RTCA Paper No. 107-04/PMC-326, prepared by SC-193.

• Final Draft, Revised DO-282-Minimum Operational Performance Standards for Universal Access Transceiver (UAT) Automatic Dependent Survelliance-Boardcast (ADS-B), RTCA Paper No. 081-04/PMC-324, prepared by SC-186

• Final Draft, Assessment of Radio Frequency Interference Relevant to the GNSS L5/E5A Frequency Band, RTCA Paper No. 110-04/PMC-327, prepared by SC-159

• Final Draft, Minimum Operational Performance Standards for Nickel-Cadmium and Lead Acid Batteries, RTCA Paper No. 109-04/PMC-327, prepared by SC-197

• Final Draft Revised DO-257, Interoperability Requirements for ATS Applications Using ARING 622 Data Communications, RTCA Paper No. 112-04/PMC-329, prepared by SC-189

• Final Draft Revised DO-280, Interoperability Requirements for ATN baseline 1 (INTEROP ATN B1), RTCA Paper No. 113-04/PMC-330, prepared by SC-189.

• Discussion:

• Special Committee 159, Global Positioning (GPS)

• Consider Proposal to Develop a Ground-Based Regional Augmentation System (GRAS) MOPS

• Reveiw/Approve Revised Terms of Reference

• Unmanned Aircraft-Discussion New Committee Request

• Special Committee Chairman's Report

• Action Item Review:

• Possible New SC-189 Activity-Interoperability Requirements for Mixed Data Communications

• Review/Status

• Requirements Focus Group

• Review/Status

• Closing Session (Other Business, Document Production, Data and Place of Next Meeting, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on July 2, 2004.
Robert Zoldos,
FAA System Engineer, RTCA Advsiory Committee.

[FR Doc. 04-16109 Filed 7-15-04; 8:45 am]

BILLING CODE 4910-13-M